DEPARTMENT OF ENERGY

Federal Energy Regulatory Commission

[Docket No. CP00-454-000]

Koch Gateway Pipeline Company; Notice of Application for Abandonment Authorization

September 15, 2000.

Take notice that on September 6, 2000, Koch Gateway Pipeline Company (Koch), 20 East Greenway Plaza, Houston, Texas 77046-2002, filed an abbreviated application pursuant to Section 7(b) of the Natural Gas Act (NGA) requesting the issuance of an Order granting permission and approval to abandon the middle river crossing tube across the Sabine River, specifically approximately 890 feet of 10-inch pipe and 13 feet of 14-inch pipe located in Newton County, Texas or Beauregard Parish, Louisiana, all as more fully set forth in the application which is on file with the Commission and open to public inspection. The application may be viewed on the web at www.ferc.fed.us/online/rims.htm. Call (202) 208-2222 for assistance. Any questions regarding the application should be directed to: Kyle Stephens, Director of Certificates, Koch Gateway Pipeline Company, P.O. Box 1478, Houston, Texas, 77251-1478 at (713) 544-7309.

According to Koch, in 1931 it installed approximately 62 miles of mainline known as Call Junction Line (Index 201). These facilities were originally constructed to provide service to the southeast Louisiana market area and were certificated pursuant to Koch's grandfather certificate issued in FPC Docket No. G-232. The Sabine River crossing when originally constructed, consisted of three parallel 10-inch tubes and two 14-inch header lines that connect to Index 201 on the west and east side of the river. Koch states that the Sabine River crossing was only used in emergency situations such as in the case of gas supply interruptions. Currently, no gas is flowing on Index 201 from its western terminus to the intersection of Index 201-6. Further, Koch states that it has no firm commitments on this section of Index 201 which includes the Sabine River crossing. Koch proposes to abandon approximately 890 feet of 10-inch pipe and 13 feet of 14-inch pipe, which constitutes the middle tube assembly of the Sabine River crossing on Koch's Index 201.¹ Of the total 890 feet of 10-inch, Koch proposes to cut, cap, fill with water and abandon in place approximately 713 feet of 10-inch and to abandon by removal approximately 177 feet of the 10-inch. Additionally, Koch proposes to cut, cap, and abandon in place approximately 13 feet of 14-inch pipe.

¹ The northernmost tube was removed in October 1998 as authorized in Docket No. CP97-257-000.

Recently, Koch asserts that the natural erosion of the east bank of the Sabine River removed the cover from the middle tube of the crossing, and rendered the pipeline unsupported by soil. Specifically, a 177-foot segment of the middle tube is unsupported and, at certain times of the year, may pose a navigational hazard. As a precautionary measure, Koch states that it has removed the middle tube from service and idled this portion of the crossing assembly pending replacement or abandonment. Koch does not believe that the replacement of the middle tube is economically justified. Koch states that the abandonment of the proposed facilities will not result in a reduction of service to any of its customers, no gas is flowing on Index 201 from its western terminus to the intersection of Index 201-6, which includes the river crossing. The remaining southernmost tube, located approximately 148 feet downstream of the middle tube, is intact and not experiencing any erosion at this time and is capable of flowing approximately 14.58 MMCF/d across the river if necessary.

Any person desiring to be heard or to protest this application should file a motion to intervene or protest with the Federal Energy Regulatory Commission, 888 First Street, NE., Washington, DC 20426, in accordance with the requirements of the Commission's Rules of Practice and Procedure (18 CFR 385.214 or 385.211) and the Commission's Regulations under the Natural Gas Act (18 CFR 157.10). All such motions or protests must be filed on or before October 6, 2000. Protests will be considered by the Commission in determining the appropriate action to be taken, but will not serve to make protestants parties to the proceeding. Any person wishing to become a party to a proceeding must file a motion to intervene in accordance with the Commission's Rules and Regulations. Copies of this application are on file with the Commission and are available for public inspection in the Public Reference Room.

Take further notice that, pursuant to the authority contained in and subject to the jurisdiction conferred upon the Commission by Sections 7 and 15 of the Natural Gas Act and the Commission's Rules of Practice and Procedure, a hearing will be held without further notice before the Commission if no intervention or protests is filed within the time frame required herein, if the Commission on its own review of the matter finds that permission and approval for the proposed abandonment are required by the public convenience and necessity. If a motion for leave to intervene is timely filed, or if the Commission and its own motion believes that a formal hearing is required, further notice of such hearing will be duly given.

Under the procedure herein provided for, unless otherwise advised, it will be unnecessary for Applicant to appear or be represented at the hearing.

David P. Boergers,
Secretary.

[FR Doc. 00-24273 Filed 9-20-00; 8:45 am]

BILLING CODE 6717-01-M